DEPARTMENT OF COMMERCE

International Trade Administration

[C-580-882]

Certain Cold-Rolled Steel Flat Products From the Republic of Korea: Final Results of Countervailing Duty Administrative Review; 2019; Correction

AGENCY: Enforcement and Compliance, International Trade Administration, Department of Commerce.

ACTION: Notice; correction.

SUMMARY: The Department of Commerce (Commerce) published a notice in the Federal Register of April 8, 2022, in which Commerce announced the final results of the 2019 administrative review of the countervailing duty (CVD) order on certain cold-rolled steel flat products (cold-rolled steel) from the Republic of Korea (Korea). This notice incorrectly listed “Dongbu USA” and “POSCO International Corp. (POSCO International Corporation)” in “Appendix II: List of Non-Selected Companies.”

FOR FURTHER INFORMATION CONTACT: Natasia Harrison, AD/CVD Operations, Office VI, Enforcement and Compliance, International Trade Administration, U.S. Department of Commerce, 1401 Constitution Avenue NW, Washington, DC 20230; telephone: (202) 482-1240.

SUPPLEMENTARY INFORMATION:

Correction

In the Federal Register of April 8, 2022, in FR Doc 2022-07502, on pages 20823, in the third column, and 20824, in the first column, correct “Appendix II: List of Non-Selected Companies” by removing “13. Dongbu USA” and “35. POSCO International Corp. (POSCO International Corporation)” and renumbering the list as follows:

Appendix II: List of Non-Selected Companies

1. AJU Steel Co., Ltd.

2. Amerisource Korea

3. Atlas Shipping Cp. Ltd.

4. BC Trade

5. Busung Steel Co., Ltd.

6. Cenit Co., Ltd.

7. Daewoo Logistics Corp.

8. Dai Yang Metal Co., Ltd.

9. DK GNS Co., Ltd

10. Dongbu Incheon Steel Co., Ltd.¹

¹ While Dongbu Steel Co., Ltd. and Dongbu Incheon Steel Co., Ltd. are non-selected respondents, because each received a calculated rate in the prior review (i.e., Certain Cold-Rolled Steel Flat Products from the Republic of Korea: Final Results of Countervailing Duty Administrative Review; 2018, 86 FR 40465 (July 28, 2021)), Commerce has found it appropriate to apply that calculated rate to Dongbu Steel Co., Ltd. and Dongbu Incheon Steel Co., Ltd.

11. Dongbu Steel Co., Ltd.²

² Id.

12. KG Dongbu Steel Co., Ltd.

13. Dong Jin Machinery

14. Dongkuk Industries Co., Ltd.

15. Dongkuk Steel Mill Co., Ltd.

16. Eunsan Shipping and Air Cargo Co., Ltd.

17. Euro Line Global Co., Ltd.

18. GS Global Corp.

19. Hanawell Co., Ltd.

20. Hankum Co., Ltd.

21. Hyosung TNC Corp.

22. Hyuk San Profile Co., Ltd.

23. Hyundai Group

24. Iljin NTS Co., Ltd.

25. Iljin Steel Corp.

26. Jeen Pung Industrial Co., Ltd.

27. JT Solution

28. Kolon Global Corporation

29. Nauri Logistics Co., Ltd.

30. Okaya (Korea) Co., Ltd.

31. PL Special Steel Co., Ltd.

32. POSCO C&C Co., Ltd.

33. POSCO Daewoo Corp.

34. Samsung C&T Corp.

35. Samsung STS Co., Ltd.

36. SeAH Steel Corp.

37. SM Automotive Ltd.

38. SK Networks Co., Ltd.

39. Taihan Electric Wire Co., Ltd.

40. TGS Pipe Co., Ltd.

41. TI Automotive Ltd.

42. Xeno Energy

43. Young Steel Co., Ltd.

Background

On April 8, 2022, Commerce published in the Federal Register the final results of the 2019 administrative review of the CVD order on cold-rolled steel from Korea.³ This notice inadvertently listed “Dongbu USA” and “POSCO International Corp. (POSCO International Corporation)” in “Appendix II: List of Non-Selected Companies.” Because Dongbu USA is a U.S.-based company, it should not have been included in “Appendix II: List of Non-Selected Companies.” ⁴ Additionally, because POSCO International Corp. (POSCO International Corporation) is a trading company and its entries are subject to the rate of the producer, it should not have been included in “Appendix II: List of Non-Selected Companies.” ⁵

³ See Certain Cold-Rolled Steel Flat Products from the Republic of Korea: Final Results of Countervailing Duty Administrative Review; 2019, 87 FR 20821 (April 8, 2022) (Final Results), and accompanying Issues and Decision Memorandum.

⁴ See AK Steel Corporation, Nucor Corporation, Steel Dynamics, Inc., and United States Steel Corporation's Letter, “Certain Cold-Rolled Steel Flat Products from the Republic of Korea: Request for Administrative Review,” dated September 30, 2020.

⁵ See Final Results, 87 FR at 20822 n.8.

Notification to Interested Parties

This notice is issued and published in accordance with sections 751(a)(1) and 777(i)(1) of the Tariff Act of 1930, as amended, and 19 CFR 351.221(b)(5).

Dated: April 18, 2022.
Lisa W. Wang,
Assistant Secretary for Enforcement and Compliance.

[FR Doc. 2022-08624 Filed 4-21-22; 8:45 am]

BILLING CODE 3510-DS-P